DEPARTMENT OF VETERANS AFFAIRS

Solicitation of Nominations for Appointment to the MyVA Advisory Committee

ACTION: Notice.

SUMMARY: The Department of Veterans Affairs (VA), Office of Enterprise Integration—MyVA Task Force, is seeking nominations of qualified candidates to be considered for appointment as a member of the MyVA Advisory Committee (Committee). The Committee provides advice to the Secretary of Veterans Affairs related to the Department's MyVA initiative and VA's ability to rebuild trust with Veterans and other stakeholders, improve service delivery with a focus on Veteran outcomes, and set the course for longer-term excellence and reform of VA. Nominations of qualified candidates are being sought to fill upcoming vacancies on the Committee.

DATES: Nominations for membership on the Committee must be received no later than 5:00 p.m. on June 16, 2017. Packages received after this time will not be considered for the current membership cycle. All nomination packages should be sent to the Advisory Committee Management Office by email (recommended) or mail.

ADDRESSES: Advisory Committee Management Office (00AC), Department of Veterans Affairs, 810 Vermont Avenue NW., Washington, DC 20420, vaadvisorycmte@va.gov.

SUPPLEMENTARY INFORMATION: The Committee's responsibilities include:

(1) Periodic reviews of the Department's progress on the MyVA efforts identified by the Secretary to address and improve Veteran engagement and experience, streamline internal processes to enhance the delivery of services, and reorganize to integrate services across VA business lines.

(2) Advise on completing short-term and long-range plans, priorities, and strategies to improve the operational functions, services, processes, and outputs of the Department to achieve the outcomes outlined above.

(3) Advice on appropriate levels of support and funding to develop those plans, priorities and strategies, and to help maintain appropriate balance between competing elements of the Department.

(4) Advice on implementation of recommended improvements. Management and support services for the Committee are provided by the MyVA Task Force.

Membership Criteria and Qualifications

VA is requesting nominations for Committee membership. The Committee is comprised of up to 20 members. The members of the Committee are appointed by the Secretary from the general public.

The Secretary shall determine the number, terms of service, and pay and allowances of members of the Committee appointed by the Secretary. Individuals selected for appointment to the Committee shall be invited to serve a two-year term. The Secretary may reappoint any member for additional terms of service. Committee members will receive per diem and reimbursement for travel expenses incurred.

Requirements for Nomination Submission

Nominations should be typed (one nomination per nominator). Nomination package should include:

(1) A letter of nomination that clearly states the name and affiliation of the nominee, the basis for the nomination (i.e. specific attributes which qualify the nominee for service in this capacity), and a statement from the nominee indicating a willingness to serve as a member of the Committee;

(2) The nominee's contact information, including name, mailing address, telephone numbers, and email address;

(3) The nominee's curriculum vitae, no more than three pages and a one page cover letter; and

(4) A summary of the nominee's experience and qualifications.

The Department shall make every effort to ensure that the membership of its Federal advisory committees is fairly balanced in terms of points of view represented and the committee's function. Appointments to this Committee shall be made without discrimination because of a person's race, color, religion, sex, sexual orientation, gender identity, national origin, age, disability, or genetic information. Nominations must state that the nominee is willing to serve as a member of the Committee and appears to have no conflict of interest that would preclude membership. An ethics review is conducted for each selected nominee.

Authority: The Committee is established by the directive of the Secretary of VA, in accordance with the provisions of the Federal Advisory Committee Act (FACA), as amended, 5 U.S.C., App. 2.

Dated: May 24, 2017.
Jelessa M. Burney,
Federal Advisory Committee Management Officer.

[FR Doc. 2017-11054 Filed 5-26-17; 8:45 am]

BILLING CODE P